ENVIRONMENTAL PROTECTION AGENCY

[EPA-HQ-OW-2014-0350, FRL 9915-93-OEI]

Information Collection Request Submitted to OMB for Review and Approval; Comment Request; National Listing of Fish Advisories (Renewal)

AGENCY: Environmental Protection Agency (EPA).

ACTION: Notice.

SUMMARY: The Environmental Protection Agency has submitted an information collection request (ICR), National Listing of Fish Advisories, (EPA ICR Number 1959.05, OMB Control Number 2040-0226) to the Office of Management and Budget (OMB) for review and approval in accordance with the Paperwork Reduction Act (44 U.S.C. 3501 et seq.). This is a proposed extension of the ICR, which is currently approved through November 30, 2014. Public comments were previously requested via the Federal Register (79 FR 33188) on June 10, 2014 during a 60-day comment period. This notice allows for an additional 30 days for public comments. A fuller description of the ICR is given below, including its estimated burden and cost to the public. An Agency may not conduct or sponsor and a person is not required to respond to a collection of information unless it displays a currently valid OMB control number.

DATES: Additional comments must be submitted on or before December 22, 2014.

ADDRESSES: Submit your comments, referencing Docket ID Number EPA-HQ-OW-2014-0350, to (1) EPA online using www.regulations.gov (our preferred method), by email to OW-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: LCDR Samantha Fontenelle, Office of Science and Technology, Standards and Health Protection Division, MC-4305T, Environmental Protection Agency, 1200 Pennsylvania Ave. NW., Washington, DC 20460; telephone number: (202) 566-2083; fax number: (202) 566-0409; email address: fontenelle.samantha@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The National Listing of Fish Advisories (NLFA) database contains information on the number of advisories issued by each state, territory, or tribe annually. The advisory information collected identifies the waterbody under advisory, the fish or shellfish species and size ranges included in the advisory, the chemical contaminants and residue levels causing the advisory to be issued, the waterbody type (river, lake, estuary, coastal waters), and the target populations to whom the advisory is directed. This information is collected under the authority of section 104 of the Clean Water Act, which provides for the collection of information to be used to protect human health and the environment. The results of the survey are shared with states, territories, tribes, other federal agencies, and the general public through the NLFA database and the distribution of biennial fish advisory fact sheets. The responses to the survey are voluntary and the information requested is part of the state public record associated with the advisories. No confidential business information is requested.

Form Numbers: None.

Respondents/Affected entities: Entities potentially affected by this action are Administrators of Public Health and Environmental Quality Programs in state and tribal governments.

Respondent's obligation to respond: Voluntary (Clean Water Act, Section 104).

Estimated number of respondents: 92 total.

Frequency of response: Annual.

Total estimated burden: 1,884 labor hours (per year). Burden is defined at 5 CFR 1320.03(b).

Total estimated cost: $73,116 (per year), which includes $607 annualized operation & maintenance costs. No capital or startup costs are required.

Changes in Estimates: There is a decrease of 1,452 hours in the total estimated respondent burden compared with the ICR currently approved by OMB. This decrease is due to a change in program requirements (i.e., the elimination of the State Fish Advisory Program Questionnaire).

Courtney Kerwin,
Acting Director, Collection Strategies Division.

[FR Doc. 2014-27534 Filed 11-20-14; 8:45 am]

BILLING CODE 6560-50-P